DEPARTMENT OF COMMERCE

Foreign-Trade Zones Board

[Order No. 1141]

Expansion of Foreign-Trade Zone 50 Long Beach, California, Area

Pursuant to its authority under the Foreign-Trade Zones Act of June 18, 1934, as amended (19 U.S.C. 81a-81u), the Foreign-Trade Zones Board (the Board) adopts the following Order:

Whereas the Board of Harbor Commissioners of the City of Long Beach, grantee of Foreign-Trade Zone 50, submitted an application to the Board for authority to expand FTZ 50 to include Site 5 on a permanent basis and to include two new sites in the San Gabriel Valley area, within the Los Angeles/Long Beach Customs port of entry area (FTZ Docket 27-2000; filed 6/5/00);

Whereas, notice inviting public comment was given in the Federal Register (65 FR 37113, 6/13/00) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 50 is approved, subject to the Act and the Board's regulations, including Section 400.28, and further subject to the Board's standard 2,000-acre activation limit for the overall zone project.

Signed at Washington, DC, this 16th day of January 2001.
Troy H. Cribb,
Assistant Secretary of Commerce for Import Administration, Alternate Chairman, Foreign-Trade Zones Board.

Dennis Puccinelli,
Executive Secretary.

[FR Doc. 01-2204 Filed 1-30-01; 8:45 am]

BILLING CODE 3510-DS-P